DEPARTMENT OF ENERGY

Federal Energy Regulatory Commission

Combined Notice of Filings #1

Take notice that the Commission received the following electric rate filings:

Docket Numbers: ER14-1767-002.

Applicants: Titan Gas and Power.

Description: MBR Tariff to be effective 6/23/2014.

Filed Date: 6/3/14.

Accession Number: 20140603-5060.

Comments Due: 5 p.m. ET 6/24/14.

Docket Numbers: ER14-2105-000.

Applicants: CPV Shore, LLC.

Description: Filing Under Federal Power Act Section 205 to be effective 8/2/2014.

Filed Date: 6/2/14.

Accession Number: 20140602-5242.

Comments Due: 5 p.m. ET 6/23/14.

Docket Numbers: ER14-2106-000.

Applicants: CPV Maryland, LLC.

Description: Filing Under Federal Power Act Section 205 to be effective 8/2/2014.

Filed Date: 6/2/14.

Accession Number: 20140602-5247.

Comments Due: 5 p.m. ET 6/23/14.

Docket Numbers: ER14-2107-000.

Applicants: Southwest Power Pool, Inc.

Description: 1148R18 American Electric Power NITSA and NOA to be effective 5/1/2014.

Filed Date: 6/2/14.

Accession Number: 20140602-5253.

Comments Due: 5 p.m. ET 6/23/14.

Docket Numbers: ER14-2108-000.

Applicants: Lonestar Power Marketing LLC.

Description: Lonestar Power Marketing LLC MBR Tariff—Clone to be effective 7/17/2014.

Filed Date: 6/2/14.

Accession Number: 20140602-5286.

Comments Due: 5 p.m. ET 6/23/14.

Docket Numbers: ER14-2109-000.

Applicants: Bethlehem Renewable Energy, LLC.

Description: Filing to Update the Market-Based Tariff of Bethlehem Renewable Energy, LLC to be effective 6/3/2014.

Filed Date: 6/3/14.

Accession Number: 20140603-5000.

Comments Due: 5 p.m. ET 6/24/14.

Docket Numbers: ER14-2110-000.

Applicants: Fauquier Landfill Gas, LLC.

Description: Filing to Update the Market-Based Tariff of Fauquier Landfill Gas, LLC to be effective 6/3/2014.

Filed Date: 6/3/14.

Accession Number: 20140603-5001.

Comments Due: 5 p.m. ET 6/24/14.

Docket Numbers: ER14-2111-000.

Applicants: Eastern Landfill Gas, LLC.

Description: Filing to Update the Market-Based Tariff of Eastern Landfill Gas, LLC to be effective 6/3/2014.

Filed Date: 6/3/14.

Accession Number: 20140603-5002.

Comments Due: 5 p.m. ET 6/24/14.

Docket Numbers: ER14-2112-000.

Applicants: Pheasant Run Wind, LLC.

Description: Pheasant Run Wind, LLC Amendment to Common Facilities Agreement to be effective 6/3/2014.

Filed Date: 6/3/14.

Accession Number: 20140603-5005.

Comments Due: 5 p.m. ET 6/24/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2014.
Nathaniel J. Davis, Sr.,
Deputy Secretary.

[FR Doc. 2014-13522 Filed 6-10-14; 8:45 am]

BILLING CODE 6717-01-P